DEPARTMENT OF JUSTICE

Notice of Public Comment Period for Proposed Clean Water Act Consent Decree

Notice is hereby given that, for a period of 30 days, the United States will receive public comments on a proposed Consent Decree in United States v. Explorer Pipeline Company (“Explorer Consent Decree”) (Civil Action No. 4:08-cv-2944), which was lodged with the United States District Court for the Southern District of Texas on January 8, 2009.

The Complaint in this Clean Water Act case was filed against Explorer Pipeline Company on October 2, 2008. The Complaint alleges that Explorer is civilly liable for violation of the Clean Water Act (“CWA”), 33 U.S.C. 1251 et seq., as amended by the Oil Pollution Act of 1990 (“OPA”), 33 U.S.C. 2701 et seq. The Complaint seeks civil penalties for the discharge of jet fuel into navigable waters of the United States or adjoining shorelines from Explorer's 28-inch interstate refined petroleum products pipeline near Huntsville, Walker County, Texas, on July 14, 2007. The Complaint alleges that at least 6,568 barrels of jet fuel were discharged from the pipeline during the spill event. Under the settlement, Explorer will pay a civil penalty of $3,300,000. In earlier responses to the spill, Explorer replaced the section of pipe that ruptured and completed cleanup of the impacted waters and adjoining shorelines. In addition, Explorer is cooperating in a joint federal and state natural resource damage assessment and is performing additional pipeline assessment and followup work under a Corrective Action Order issued by the United States Department of Transportation, Pipeline and Hazardous Materials Safety Administration.

Comments should be addressed to the Assistant Attorney General, Environment and Natural Resources Division, and may be submitted to: P.O. Box 7611, U.S. Department of Justice, Washington, DC 20044-7611, or via e-mail to pubcomment-ees.enrd@usdoj.gov, and should refer to United States v. Explorer Pipeline Company, D.J. Ref. 90-5-1-1-07276/1.

The Consent Decree may be examined at the Office of the United States Attorney, Southern District of Texas, 919 Milam Street, Suite 1500, Houston, Texas. During the public comment period the Explorer Consent Decree may also be examined on the following Department of Justice Web site: http://www.usdoj.gov/enrd/Consent_Decrees.html. A copy of the Explorer Consent Decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury.

Maureen M. Katz,
Assistant Section Chief, Environmental Enforcement Section, Environment and Natural Resources Division.

[FR Doc. E9-592 Filed 1-13-09; 8:45 am]

BILLING CODE 4410-15-P